POSTAL RATE COMMISSION

Plant Tours

AGENCY: Postal Rate Commission.

ACTION: Notice of Commission tours.

SUMMARY: Postal Rate Commissioners and advisory staff members will tour postal and mailers' facilities in January. The purpose of the tours is to observe mailing operations

DATES: 1. Friday, January 6, 2006: U.S. Postal Service bulk mail facility, Largo, Maryland.

2. Tuesday, January 10, 2006: U.S. Postal Service Priority Mail processing area, Dulles, Virginia postal facility.

3. Thursday, January 12, 2006: FedEx mail processing operations, Memphis, Tennessee.

FOR FURTHER INFORMATION CONTACT: Stephen L. Sharfman, General Counsel, Postal Rate Commission, (202) 789-6818.

Garry J. Sikora,
Acting Secretary.

[FR Doc. 06-67 Filed 1-4-06; 8:45 am]

BILLING CODE 7710-FW-M